DEPARTMENT OF HEALTH AND HUMAN SERVICES

National Institutes of Health

Center for Scientific Review; Amended Notice of Meeting

Notice is hereby given of a change in the meeting of the Etiology, Diagnostic, Intervention and Treatment of Infectious Diseases Study Section, May 01, 2025, 09:00 a.m. to May 02, 2025, 06:00 p.m., National Institutes of Health, Rockledge II, 6701 Rockledge Drive, Bethesda, MD 20892 which was published in the Federal Register on March 11, 2025, 90 FR 11739.

This meeting is being amended to change the contact person from Dr. Zheng, Liangbiao to Dr. Lewis, Lisa Ann. The meeting is closed to the public.

Dated: March 25, 2025.
Sterlyn H. Gibson,
Program Specialist, Office of Federal Advisory Committee Policy.

[FR Doc. 2025-05475 Filed 3-28-25; 8:45 am]

BILLING CODE 4140-01-P